NATIONAL ARCHIVES AND RECORDS ADMINISTRATION

Electronic Records Policy Working Group Request for Public Comment

AGENCY: National Archives and Records Administration (NARA).

ACTION: Request for public comment.

SUMMARY: The Electronic Records Policy Working Group is inviting interested persons to provide their written views on issues relating to implementing section 207(e)(1)(A) of the E-Government Act of 2002. That section calls for “the adoption by agencies of policies and procedures to ensure that chapters 21, 25, 27, 29, and 31 of title 44, United States Code, are applied effectively and comprehensively to Government information on the Internet and to other electronic records.” The topics on which the Working Group is seeking comment and additional information about the Working Group are provided in the SUPPLEMENTARY INFORMATION section of this notice.

DATES: To be considered, comments must be received no later than April 5, 2004.

ADDRESSES: Send your comments to ERPWG@nara.gov or by fax to 301-837-0319.

SUPPLEMENTARY INFORMATION:

Background

The Electronic Records Working Group was established by the Interagency Committee on Government Information (ICGI), to fulfill the requirements of subsection 207(e) of the Act, “Public Access to Electronic Information.” The Working Group's members are drawn from a number of Federal agencies, with NARA as the chair. The Working Group will develop for the ICGI proposed recommendations on records management policies and procedures. The Working Group has held several focus groups with interested stakeholders from Federal agencies, public interest groups, and professional organizations and will hold a public meeting on March 30, 2004 (see 69 FR 9855, March 2, 2004) to gather input to inform their recommendations. In order to solicit the opinions of stakeholders who could not attend one of these meetings, the Working Group is providing this opportunity to comment.

Issues for Comment

The Working Group is seeking feedback on the following topics in their meetings and this notice.

1. The definition of “Government information on the Internet and other electronic records.” The operating definitions currently used by the Working Group are as follows:

A. Government information on the Internet includes:

• Information posted on Government web sites,

• Information exchanged between Federal agencies,

• Information exchanged between Federal agencies and the public,

• Information exchanged between Federal agencies and other governments,

• Government-enabled web services,

• Standard government forms,

• E-government business transactions.

B. Other electronic records—electronic information meeting the definition of a Federal record per 44 U.S.C. 3301. Records include:

• All books, papers, maps, photographs, machine readable materials, or other documentary materials,

• regardless of physical form or characteristics,

• made or received by an agency of the United States Government,

• under Federal law or,

• in connection with the transaction of public business,

• and preserved or appropriate for preservation by that agency or its legitimate successor,

• as evidence of the organization, functions, policies, decisions, procedures, operations or other activities of the Government or,

• because of the informational value of the data in them (44 U.S.C. 3301).

2. Perceived barriers to effective management of “Government information on the Internet and other electronic records.” The operating definition of effective management currently used by the Working Group includes:

• Managing through the life cycle,

• Providing for accessibility and retrieval,

• Providing sufficient security,

• Ensuring consistency (ability to reproduce record),

• Providing for the integrity of records over time,

• Ensuring no loss of records,

• Ensuring compatibility with standard formats,

• Managing format changes over time,

• Providing for long-term record storage and migration of formats,

• Managing the location of records over time,

• Cost effective,

• Appropriate long-term custodianship.

3. Guidance tools for Federal agencies that would assist in overcoming the identified barriers.

Dated: March 2, 2004.
Lewis J. Bellardo.
Deputy Archivist of the United States.

[FR Doc. 04-5091 Filed 3-5-04; 8:45 am]

BILLING CODE 7515-01-P